DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Maintenance of Receipts for Benefits Paid by a Coal Mine Operator (CM-200). A copy of the proposed information collection request can be obtained by contacting the office listed below in the addresses section of this notice.

DATES: Written comments must be submitted to the office listed in the addresses section below on or before February 17, 2004.

ADDRESSES: Ms. Hazel M. Bell, U.S. Department of Labor, 200 Constitution Ave., NW., Room S-3201, Washington, DC 20210, telephone (202) 693-0418, fax (202) 693-1451, Email bell.hazel@dol.gov. Please use only one method of transmission for comments (mail, fax, or Email).

SUPPLEMENTARY INFORMATION:

I. Background

The Office of Workers' Compensation Programs (OWCP) administers the Federal Black Lung Benefits Act (FBLBA). Under 20 CFR 725.531, self-insured coal mine operators or insurance carriers must maintain receipts for black lung benefit payments made for five years after the date on which the receipt was executed. This requirement is designated as CM-200, Maintenance of Receipts for Benefits Paid by a Coal Mine Operator. There is no form or format for the receipts; a cancelled check will satisfy the requirement. This information collection is currently approved for use through June 30, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order that coal mine operators and insurers can provide evidence, as necessary, that payment to claimants has been made and received.

Type of Review: Extension.

Agency: Employment Standards Administration.

Title: Maintenance of Receipts for Benefits Paid by a Coal Mine Operator.

OMB Number: 1215-0124.

Agency Number: CM-200.

Affected Public: Business or other for profit and State, local or tribal government.

Recordkeeping: On occasion.

Total Respondents: 140.

Total Responses: 140.

Estimated Total Burden Hours: 1.

Total Burden Cost (capital/startup): $0.

Total Burden Cost (operating/maintenance): $0.

Comments submitted in response to this notice will be summarized and/or included in the request for Office of Management and Budget approval of the information collection request; they will also become a matter of public record.

Dated: December 15, 2003.
Bruce Bohanon,
Chief, Branch of Management Review and Internal Control, Division of Financial Management, Office of Management, Administration and Planning, Employment Standards Administration.

[FR Doc. 03-31296 Filed 12-18-03; 8:45 am]

BILLING CODE 4510-CR-P